DEPARTMENT OF THE INTERIOR

Fish and Wildlife Service

Notice of Intent To Prepare a Comprehensive Conservation Plan and Environmental Assessment for Sherburne National Wildlife Refuge, in Central Minnesota

AGENCY: Fish and Wildlife Service, Interior.

ACTION: Notice of intent to prepare a Comprehensive Conservation Plan and Environmental Assessment for Sherburne National Wildlife Refuge.

SUMMARY: This notice advises the public that the U.S. Fish and Wildlife Service (Service) intends to gather information necessary to prepare a Comprehensive Conservation Plan (CCP) and Environmental Assessment (EA) pursuant to the National Environmental Policy Act (NEPA) and its implementing regulations, for the Sherburne National Wildlife Refuge located in Sherburne County, Minnesota. The Service is furnishing this notice in compliance with the National Wildlife Refuge System Administration Act of 1966, as amended (16 U.S.C. 668dd et seq.), to achieve the following:

(1) Advise other agencies and the public our intentions, and

(2) Obtain additional suggestions and information on the scope of alternatives and impacts to be considered.

Open house style meetings and focus group meetings will also be held throughout the scoping phase of the CCP development process. In addition, the Service is inviting comments on archaeological, historic, and traditional cultural sites in support of the National Historic Preservation Act.

Special mailings, newspaper articles, and other media announcements will inform people of the opportunities for written input throughout the CCP planning process.

DATES: The Service is soliciting written comments and will hold two public open house scoping meetings in the School House on the Sherburne National Wildlife Refuge, 17076 293rd Avenue, Zimmerman, Minnesota, on the following dates: May 29, 2001 10:00 a.m.-4:30 p.m., May 30, 2001 6:00 p.m.-9:00 p.m.

ADDRESSES: Address comments to Refuge Manager, Sherburne National Wildlife Refuge, 17076 293rd Avenue, Zimmerman, MN 56346. Comments may also be submitted electronically at R3RW_SHB@fws.gov.

FOR FURTHER INFORMATION CONTACT: Refuge Manager, Sherburne National Wildlife Refuge, 763/389-3323.

SUPPLEMENTARY INFORMATION: By Federal law, all lands within the National Wildlife Refuge System are to be managed in accordance with an approved CCP. The CCP guides management decisions and identifies refuge goals, long-range objectives, and strategies for achieving refuge purposes.

The CCP planning process will consider many elements, including wildlife and habitat management, habitat protection and acquisition, wilderness preservation, public recreational activities, industrial use, and cultural resource preservation. Public input into this planning process is essential.

The CCP will provide other agencies and the public with a clear understanding of the desired conditions for the Refuge and how the Service will implement management strategies.

The Service will prepare an Environmental Assessment (EA) in accordance with procedures for implementing NEPA found in the Departmental Manual 516 DM 6, Appendix 1.

The Service will contract for a cultural resources overview study in support of the comprehensive conservation plan. The professional study will identify known sites on the refuge. We are also asking the public to identify any cultural sites that are important to them.

Review of this project will be conducted in accordance with the requirements of the National Environmental Policy Act of 1969, as amended (42 U.S.C. 4321 et seq.), NEPA Regulations (40 CFR 1500-1508), other appropriate Federal laws and regulations, and Service policies and procedures for compliance with those regulations.

We estimate that the draft environmental documents will be available in summer 2002.

Dated: April 26, 2001.
Marvin E. Moriarty,
Acting Regional Director.

[FR Doc. 01-11221 Filed 5-3-01; 8:45 am]

BILLING CODE 4310-55-M